FEDERAL MARITIME COMMISSION

Ocean Transportation Intermediary License Revocations

The Commission gives notice that the following Ocean Transportation Intermediary licenses have been revoked pursuant to section 40901 of the Shipping Act of 1984 (46 U.S.C. 40101) effective on the date shown.

License No.: 2219F.

Name: Roxana Gugliatto.

Address: 9950 SW 11th Terrace, Miami, FL 33174.

Date Revoked: August 18, 2012.

Reason: Failed to maintain a valid bond.

License No.: 002302N.

Name: Whiting World-Wide Inc. dba World Wide Cargo Consolidators.

Address: 1901 NW 79th Avenue, Miami, FL 33126.

Date Revoked: August 23, 2012.

Reason: Voluntary surrender of license.

License No.: 008135N.

Name: C & F Worldwide Agency Corporation.

Address: Carr, 848 KM 3.2, Calle Diaz Final St. Just, Carolina, PR 00983.

Date Revoked: August 8, 2012.

Reason: Failed to maintain a valid bond.

License No.: 016727NF.

Name: Cargo Express (Saipan), Inc.

Address: Cargo Express Bldg., Lower Base Drive, Lower Base, Saipan, Northern Mariana Islands 96950.

Date Revoked: August 25, 2012.

Reason: Failed to maintain valid bonds.

License No.: 17342F.

Name: Trans Circle Inc.

Address: 1927 West 139th Street, Gardena, CA 90249.

Date Revoked: August 15, 2012.

Reason: Failed to maintain a valid bond.

License No.: 018124NF.

Name: Limitless Transportation Services Inc.

Address: 14631 Heathermere Lane, Orlando, FL 32837.

Date Revoked: August 24, 2012.

Reason: Failed to maintain valid bonds.

License No.: 020088F.

Name: Hal-Mari International Logistics, Inc.

Address: 9122 Telephone Road, Houston, TX 77075.

Date Revoked: August 30, 2012.

Reason: Failed to maintain a valid bond.

License No.: 021016N.

Name: ACT Shipping, Inc.

Address: 11222 S. La Cienega Blvd., Suite 608, Inglewood, CA 90304.

Date Revoked: August 27, 2012.

Reason: Failed to maintain a valid bond.

License No.: 021221NF.

Name: Trans-System Logistics, L.L.C.

Address: 701 North Post Oak, Suite 301, Houston, TX 77024.

Date Revoked: August 10, 2012.

Reason: Failed to maintain valid bonds.

Vern W. Hill,
Director, Bureau of Certification and Licensing.

[FR Doc. 2012-24385 Filed 10-2-12; 8:45 am]

BILLING CODE 6730-01-P